ENVIRONMENTAL PROTECTION AGENCY

[FRL-9152-1]

Announcement of the Board of Trustees for the National Environmental Education Foundation

AGENCY: Environmental Protection Agency (EPA).

ACTION: Notice; correction.

SUMMARY: The Environmental Protection Agency published a document in the Federal Register of April 19, 2010, concerning announcement of the Board of Trustees for the National Environmental Education Foundation. The document contained misspelled names.

FOR FURTHER INFORMATION CONTACT: Andrew Burnett, 202-564-0446.

Correction

In the Federal Register of April 19, 2010, in the FR Doc. 2010-8927, on page 20350, in the third column, correct the name and law firm of the appointee to read:

The appointee is Manuel Alberto Diaz, a partner in the law firm Lydecker Diaz, L.L.P.

Dated: May 11, 2010.
Lisa P. Jackson,
Administrator.

[FR Doc. 2010-11675 Filed 5-14-10; 8:45 am]

BILLING CODE 6560-50-P